DEPARTMENT OF COMMERCE

National Oceanic and Atmospheric Administration

[I.D. 020507B]

Marine Mammals; File No. 731-1774

AGENCY: National Marine Fisheries Service (NMFS), National Oceanic and Atmospheric Administration (NOAA), Commerce.

ACTION: Notice; receipt of application for amendment.

SUMMARY: Notice is hereby given that Robin Baird, Ph.D., Cascadia Research, 218 1/2 W. 4th Avenue, Olympia, WA 98501, has requested an amendment to scientific research Permit No. 731-1774.

DATES: Written, telefaxed, or e-mail comments must be received on or before March 14, 2007.

ADDRESSES: The amendment request and related documents are available for review upon written request or by appointment: (See SUPPLEMENTARY INFORMATION).

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 731-1774.

FOR FURTHER INFORMATION CONTACT: Jennifer Skidmore or Amy Sloan, (301)713-2289.

SUPPLEMENTARY INFORMATION: The subject amendment to Permit No. 731-1774, issued on September 16, 2005, and most recently amended on December 29, 2006, is requested under the authority of the Marine Mammal Protection Act of 1972, as amended (16 U.S.C. 1361 et seq.), the regulations governing the taking and importing of marine mammals (50 CFR part 216).

Permit No. 731-1774, issued to Robin Baird, Ph.D. (Cascadia Research) authorizes vessel approaches, aerial over-flights, photo-identification, video and audio recording and suction cup tagging of cetacean species in all U.S. and international waters in the Pacific, including Alaska, Washington, Oregon, California, Hawaii, and other U.S. territories. The objectives of the research are to assess cetacean populations and to study diving and night-time behavior, social organization, and inter-specific interactions. The purpose of the modification is to enhance the examination of movements (for stock structure assessment) and habitat use of: Blainville's (Mesoplodon densirostris), Cuvier's (Ziphius cavirostris), Longman's (Indopacetus pacificus), and Baird's (Berardius bairdii) beaked whales, short-finned pilot (Globicephala macrorhynchus), non-Southern Resident killer (Orcinus orca), pygmy killer (Feresa attenuata), melon-headed (Peponocephala electra), and false killer (Pseudorca crassidens) whales, bottlenose (Tursiops truncatus), rough-toothed (Steno bredanensis), and Risso's (Grampus griseus) dolphins, and dwarf (Kogia sima) and pygmy (Kogia breviceps) sperm whales using satellite tagging with dart tags. For each species, up to 20 individuals may be dart tagged per year for the duration of the permit. Incidental harassment of non-target animals is already authorized no additional harassment takes are requested. Dart tagging would occur concurrently with already permitted activities, primarily in Hawaiian waters, though some species may be tagged opportunistically elsewhere where activities are authorized. No takes by dart tagging or additional incidental takes of ESA listed species are requested. The amended permit, if issued, would be valid until the permit expires on August 31, 2010.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: February 6, 2007.
P. Michael Payne,
Chief, Permits, Conservation and Education Division, Office of Protected Resources, National Marine Fisheries Service.

[FR Doc. E7-2338 Filed 2-9-07; 8:45 am]

BILLING CODE 3510-22-S